DEPARTMENT OF ENERGY

Federal Energy Regulatory Commission

[Docket No. CP23-519-000]

Rio Bravo Pipeline Company, LLC; Notice of Schedule for the Preparation of an Environmental Assessment for the Rio Bravo Pipeline Route Amendment

On July 20, 2023, Rio Bravo Pipeline Company, LLC (Rio Bravo) filed an application in Docket No. CP23-519-000 requesting a Certificate of Public Convenience and Necessity pursuant to Section 7(c) of the Natural Gas Act to construct and operate certain natural gas pipeline facilities. The proposed project is known as the Rio Bravo Pipeline Route Amendment (Amendment), and would involve four minor route adjustments to the previously authorized route for the Rio Bravo Pipeline, as well as incorporate several minor design changes.

On August 1, 2023, the Federal Energy Regulatory Commission (Commission or FERC) issued its Notice of Application for the Amendment. Among other things, that notice alerted agencies issuing federal authorizations of the requirement to complete all necessary reviews and to reach a final decision on a request for a federal authorization within 90 days of the date of issuance of the Commission staff's environmental document for the Amendment.

This notice identifies Commission staff's intention to prepare an environmental assessment (EA) for the Amendment and the planned schedule for the completion of the environmental review.¹

¹ 40 CFR 1501.10 (2020).

Schedule for Environmental Review

Issuance of EA—November 14, 2023

90-day Federal Authorization Decision Deadline ²—February 12, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Amendment's progress.

Project Description

The Amendment would adjust the Rio Bravo Pipeline's certificated route from approximate milepost (MP) 69.8 to MP 79.4 and from approximate MP 92.4 to MP 93.0 in Willacy County, Texas and from approximate MP 99.7 to MP 100.5 in Willacy and Cameron Counties, Texas. The Amendment would also relocate a meter station and extend the approved Rio Bravo Pipeline route approximately 0.6 mile in Cameron County, Texas and modify the pipe wall thickness of the majority of the Rio Bravo Pipeline consistent with U.S. Department of Transportation's Pipeline Hazardous Materials Safety Administration regulations. The route adjustments are intended to minimize impacts on certain sensitive environmental resources, address landowner requests, meet technical requirements from the International Boundary and Water Commission, and align the terminus of the pipelines with the currently approved design of the Rio Grande LNG Terminal.

Background

On August 23, 2023, the Commission issued a Notice of Scoping Period Requesting Comments on Environmental Issues for the Proposed Rio Bravo Pipeline Route Amendment (Notice of Scoping). The Notice of Scoping was sent to affected landowners; federal, state, and local government agencies; elected officials; environmental and public interest groups; Native American tribes; other interested parties; and local libraries and newspapers. In response to the Notice of Scoping, the Commission received comments from the U.S. Fish and Wildlife Service, U.S. Environmental Protection Agency, several individuals, Rio Grande LNG, LLC, and from Rio Bravo. The primary issues raised by the commenters specific to the scope of the Amendment are requests to extend the scoping comment period; impacts on endangered species (e.g., ocelot habitat), wildlife, and cultural resources; and reliability and safety. All substantive comments received during the scoping period and up until issuance of the EA will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Amendment is available from the Commission's Office of External Affairs at (866) 208-FERC or on the FERC website (www.ferc.gov). Using the “eLibrary” link, select “General Search” from the eLibrary menu, enter the selected date range and “Docket Number” excluding the last three digits (i.e., CP23-519), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 13, 2023.
Kimberly D. Bose,
Secretary.

[FR Doc. 2023-23106 Filed 10-18-23; 8:45 am]

BILLING CODE 6717-01-P